DEPARTMENT OF ENERGY

Federal Energy Regulatory Commission

Combined Notice of Filings

September 30, 2010.

Take notice that the Commission has received the following Natural Gas Pipeline Rate and Refund Report filings:

Docket Numbers: RP10-1361-000.

Applicants: Dominion Transmission, Inc.

Description: Dominion Transmission, Inc. submits tariff filing per 154.203: DTI—Service Agreement Termination Notice to be effective N/A.

Filed Date: 09/29/2010.

Accession Number: 20100929-5175.

Comment Date: 5 p.m. Eastern Time on Tuesday, October 12, 2010.

Docket Numbers: RP10-1362-000.

Applicants: Rockies Express Pipeline LLC.

Description: Rockies Express Pipeline LLC submits tariff filing per 154.204: Negotiate Rate 2010-09-29 A&R Northwind, Enserco, Concord to be effective 10/1/2010.

Filed Date: 09/29/2010.

Accession Number: 20100929-5203.

Comment Date: 5 p.m. Eastern Time on Tuesday, October 12, 2010.

Docket Numbers: RP10-1363-000.

Applicants: Texas Eastern Transmission, LP.

Description: Texas Eastern Transmission, LP submits tariff filing per 154.204: Non-conforming Service Agreement 910791 to be effective 10/1/2010.

Filed Date: 09/29/2010.

Accession Number: 20100929-5220.

Comment Date: 5 p.m. Eastern Time on Tuesday, October 12, 2010.

Docket Numbers: RP10-1364-000.

Applicants: TransColorado Gas Transmission Company LLC.

Description: TransColorado Gas Transmission Company LLC submits tariff filing per 154.204: Index Publication Change to be effective 11/1/2010.

Filed Date: 09/29/2010.

Accession Number: 20100929-5224.

Comment Date: 5 p.m. Eastern Time on Tuesday, October 12, 2010.

Docket Numbers: RP10-1365-000.

Applicants: Algonquin Gas Transmission, LLC.

Description: Algonquin Gas Transmission, LLC submits tariff filing per 154.204: Cleanup GT&C Section 32 to be effective 5/17/2010.

Filed Date: 09/29/2010.

Accession Number: 20100929-5275.

Comment Date: 5 p.m. Eastern Time on Tuesday, October 12, 2010.

Docket Numbers: RP10-1366-000.

Applicants: Centra Pipelines Minnesota Inc.

Description: Centra Pipelines Minnesota Inc. submits tariff filing per 154.203: Baseline Filing of FERC Gas Tariff No. 1 to be effective 10/1/2010.

Filed Date: 09/29/2010.

Accession Number: 20100929-5298.

Comment Date: 5 p.m. Eastern Time on Tuesday, October 12, 2010.

Docket Numbers: RP10-1367-000.

Applicants: Texas Gas Transmission, LLC.

Description: Texas Gas Transmission, LLC submits tariff filing per 154.403(d)(2): 2010 Fuel Tracker to be effective 11/1/2010.

Filed Date: 09/29/2010.

Accession Number: 20100929-5306.

Comment Date: 5 p.m. Eastern Time on Tuesday, October 12, 2010.

Docket Numbers: RP10-1368-000.

Applicants: Gas Transmission Northwest Corporation.

Description: Gas Transmission Northwest Corporation submits tariff filing per 154.203: Compliance RP10-901 to be effective 8/1/2010.

Filed Date: 09/29/2010.

Accession Number: 20100929-5312.

Comment Date: 5 p.m. Eastern Time on Tuesday, October 12, 2010.

Docket Numbers: RP10-1369-000.

Applicants: Guardian Pipeline, L.L.C.

Description: Guardian Pipeline, L.L.C. submits tariff filing per 154.203: Guardian Agreement Baseline to be effective 10/1/2010.

Filed Date: 09/29/2010.

Accession Number: 20100929-5389.

Comment Date: 5 p.m. Eastern Time on Tuesday, October 12, 2010.

Docket Numbers: RP10-1370-000.

Applicants: Maritimes & Northeast Pipeline, L.L.C.

Description: Maritimes & Northeast Pipeline, L.L.C. submits tariff filing per 154.403(d)(2): MNUS FRQ Effective Nov. 2010 to be effective 11/1/2010.

Filed Date: 09/29/2010.

Accession Number: 20100929-5407.

Comment Date: 5 p.m. Eastern Time on Tuesday, October 12, 2010.

Docket Numbers: RP10-1371-000.

Applicants: Caledonia Energy Partners, L.L.C.

Description: Caledonia Energy Partners, L.L.C. submits its baseline filing to FERC Gas Tariff, Volume No. 1 pursuant to Order No. 714, to be effective 9/30/2010.

Filed Date: 09/30/2010.

Accession Number: 20100930-5004.

Comment Date: 5 p.m. Eastern Time on Tuesday, October 12, 2010.

Docket Numbers: RP10-1372-000.

Applicants: CenterPoint Energy Gas Transmission Company.

Description: CenterPoint Energy Gas Transmission Company submits First Revised Sheet 501 et al. to its FERC Gas Tariff, Seventh Revised Volume No. 1, to be effective 11/1/2010.

Filed Date: 09/30/2010.

Accession Number: 20100930-5006.

Comment Date: 5 p.m. Eastern Time on Tuesday, October 12, 2010.

Docket Numbers: RP10-1373-000.

Applicants: Golden Triangle Storage, Inc.

Description: Golden Triangle Storage, Inc. submits its Baseline Tariff Filing to FERC Gas Tariff, First Revised Volume No. 1 in Compliance with Order No. 714, to be effective 9/30/2010.

Filed Date: 09/30/2010.

Accession Number: 20100930-5007.

Comment Date: 5 p.m. Eastern Time on Tuesday, October 12, 2010.

Docket Numbers: RP10-1374-000.

Applicants: Paiute Pipeline Company.

Description: Southwest Gas Transmission Company submits its Baseline Filing to FERC Gas Tariff, First Revised Volume No. 2, to be effective 10/1/2010.

Filed Date: 09/30/2010.

Accession Number: 20100930-5011.

Comment Date: 5 p.m. Eastern Time on Tuesday, October 12, 2010.

Docket Numbers: RP10-1375-000.

Applicants: Total Peaking Services, L.L.C.

Description: Total Peaking Services, L.L.C. submits tariff filing per 154.203: Total Peaking Services, L.L.C.—Baseline eTariff Filing to be effective 9/30/2010.

Filed Date: 09/30/2010.

Accession Number: 20100930-5018.

Comment Date: 5 p.m. Eastern Time on Tuesday, October 12, 2010.

Docket Numbers: RP10-1376-000.

Applicants: Dominion Transmission, Inc.

Description: Dominion Transmission, Inc. submits tariff filing per 154.403: DTI—Annual EPCA to be effective 11/1/2010.

Filed Date: 09/30/2010.

Accession Number: 20100930-5046.

Comment Date: 5 p.m. Eastern Time on Tuesday, October 12, 2010.

Docket Numbers: RP10-1377-000.

Applicants: Dominion Transmission, Inc.

Description: Dominion Transmission, Inc. submits tariff filing per 154.403(d)(2): DTI—Annual TCRA to be effective 11/1/2010.

Filed Date: 09/30/2010.

Accession Number: 20100930-5058.

Comment Date: 5 p.m. Eastern Time on Tuesday, October 12, 2010.

Docket Numbers: RP10-1378-000.

Applicants: Williston Basin Interstate Pipeline Company.

Description: Williston Basin Interstate Pipeline Company submits tariff filing per 154.203: Baseline Compliance Filing to be effective 9/30/2010.

Filed Date: 09/30/2010.

Accession Number: 20100930-5069.

Comment Date: 5 p.m. Eastern Time on Tuesday, October 12, 2010.

Docket Numbers: RP10-1379-000.

Applicants: Williston Basin Interstate Pipeline Company.

Description: Williston Basin Interstate Pipeline Company submits tariff filing per 154.204: Account 191 Filing to be effective 9/30/2010.

Filed Date: 09/30/2010.

Accession Number: 20100930-5071.

Comment Date: 5 p.m. Eastern Time on Tuesday, October 12, 2010.

Docket Numbers: RP10-1380-000.

Applicants: ANR Pipeline Company.

Description: ANR Pipeline Company submits tariff filing per 154.203: Baseline Filing to be effective 9/30/2010.

Filed Date: 09/30/2010.

Accession Number: 20100930-5073.

Comment Date: 5 p.m. Eastern Time on Tuesday, October 12, 2010.

Docket Numbers: RP10-1381-000.

Applicants: Wyoming Interstate Company, L.L.C.

Description: Operational Purchases and Sales Report covering the 12-month period ending June 30, 2010 of Wyoming Interstate Company, L.L.C.

Filed Date: 09/30/2010.

Accession Number: 20100930-5092.

Comment Date: 5 p.m. Eastern Time on Tuesday, October 12, 2010.

Docket Numbers: RP10-1382-000.

Applicants: Gulf South Pipeline Company, LP.

Description: Gulf South Pipeline Company, LP submits tariff filing per 154.204: Enerquest to Trans Louisiana 9-29-10 to be effective 10/1/2010.

Filed Date: 09/29/2010.

Accession Number: 20100929-5543.

Comment Date: 5 p.m. Eastern Time on Tuesday, October 12, 2010.

Docket Numbers: RP10-1383-000.

Applicants: Portland Natural Gas Transmission System.

Description: Portland Natural Gas Transmission System submits tariff filing per 154.203: Baseline Filing to be effective 9/30/2010.

Filed Date: 09/30/2010.

Accession Number: 20100930-5109.

Comment Date: 5 p.m. Eastern Time on Tuesday, October 12, 2010.

Docket Numbers: RP10-1384-000.

Applicants: National Fuel Gas Supply Corporation.

Description: National Fuel Gas Supply Corporation submits tariff filing per 154.203: October 2010 IG Rate to be effective 10/1/2010.

Filed Date: 09/30/2010.

Accession Number: 20100930-5111.

Comment Date: 5 p.m. Eastern Time on Tuesday, October 12, 2010.

Docket Numbers: RP10-1385-000.

Applicants: West Texas Gas, Inc.

Description: West Texas Gas, Inc. submits tariff filing per 154.203: West Texas Gas, Inc. FERC Gas Tariff Second Revised Volume No. 1 to be effective 9/30/2010.

Filed Date: 09/30/2010.

Accession Number: 20100930-5112.

Comment Date: 5 p.m. Eastern Time on Tuesday, October 12, 2010.

Docket Numbers: RP10-1386-000.

Applicants: Gulf South Pipeline Company, LP.

Description: Gulf South Pipeline Company, LP submits tariff filing per 154.204: Devon to Texla 9-30-10 to be effective 10/1/2010.

Filed Date: 09/30/2010.

Accession Number: 20100930-5120.

Comment Date: 5 p.m. Eastern Time on Tuesday, October 12, 2010.

Docket Numbers: RP10-1387-000.

Applicants: Carolina Gas Transmission Corporation.

Description: Carolina Gas Transmission Corporation submits tariff filing per 154.204: Change In Rate Schedule, Forms of Service Agreement, or GT&C to be effective 11/1/2010.

Filed Date: 09/30/2010.

Accession Number: 20100930-5138.

Comment Date: 5 p.m. Eastern Time on Tuesday, October 12, 2010.

Docket Numbers: RP10-1388-000.

Applicants: OkTex Pipeline Company, L.L.C.

Description: OkTex Pipeline Company, L.L.C. submits tariff filing per 154.203: OKTex Baseline Filing to be effective 9/30/2010.

Filed Date: 09/30/2010.

Accession Number: 20100930-5154.

Comment Date: 5 p.m. Eastern Time on Tuesday, October 12, 2010.

Docket Numbers: RP10-1389-000.

Applicants: Wyckoff Gas Storage Company, LLC.

Description: Wyckoff Gas Storage Company, LLC submits tariff filing per 154.203: Baseline Filing to be effective 9/30/2010 under RP10-01389-000 Filing Type: 740

Filed Date: 09/30/2010.

Accession Number: 20100930-5187.

Comment Date: 5 p.m. Eastern Time on Tuesday, October 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25560 Filed 10-8-10; 8:45 am]

BILLING CODE 6717-01-P